ENVIRONMENTAL PROTECTION AGENCY

40 CFR Part 51 and 52

[EPA-HQ-OAR-2015-0531; FRL-9948-53-OAR]

Protection of Visibility: Amendments to Requirements for State Plans

AGENCY: Environmental Protection Agency (EPA).

ACTION: Proposed rule; extension of comment period.

SUMMARY: On May 4, 2016, the Environmental Protection Agency (EPA) proposed a rule titled, “Protection of Visibility: Amendments to Requirements for State Plans.” The EPA is extending the comment period on the proposed rule that was scheduled to close on July 5, 2016. The EPA has received requests for additional time to review and comment on the proposed rule revisions.

DATES: The public comment period for the proposed ruled published in the Federal Register on May 4, 2016, (81 FR 26942) is being extended. Written comments must be received on or before August 10, 2016.

ADDRESSES: The EPA has established docket number EPA-HQ-OAR-2015-0531 for this action. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions and general guidance on making effective comments, please visit http://www2.epa.gov/dockets/commenting-epa-dockets.

FOR FURTHER INFORMATION CONTACT: For additional information on this action, contact Christopher Werner, Office of Air Quality Planning and Standards, Environmental Protection Agency (C539-04), Research Triangle Park, North Carolina 27711; telephone number (919) 541-5133; email address: werner.christopher@epa.gov.

SUPPLEMENTARY INFORMATION: After considering the requests to extend the public comment period received from various parties, the EPA has decided to extend the public comment period until August 10, 2016. This extension will ensure that the public has additional time to review the proposed rule.

Dated: June 24, 2016.
Stephen Page,
Director, Office of Air Quality Planning and Standards.

[FR Doc. 2016-15493 Filed 6-30-16; 8:45 am]

BILLING CODE 6560-50-P